DEPARTMENT OF EDUCATION

The Use of Tests as Part of High-Stakes Decision-Making for Students: A Resource Guide for Educators and Policymakers

AGENCY: Office for Civil Rights, Department of Education.

ACTION: Notice of availability of final document.

SUMMARY: The Assistant Secretary for Civil Rights announces the availability of a final document entitled “The Use of Tests as Part of High-Stakes Decision-Making for Students: A Resource Guide for Educators and Policymakers.” The resource guide is designed to provide educators and policymakers with an informative and practical tool that will assist in their development and implementation of policies that involve the use of tests in making high-stakes decisions for students. The guide provides information about relevant Federal non-discrimination standards and professionally recognized test measurement principles, as well as a collection of resources related to the non-discrimination and test measurement principles discussed in the guide.

FOR FURTHER INFORMATION CONTACT: Address requests for copies of the final document to Jeanette J. Lim, U.S. Department of Education, 400 Maryland Avenue, SW., room 5212 Switzer Building, Washington, DC 20202-1100. Telephone: 1-800-421-3481. For all requests submitted by letter, you must include the term “Testing Guide.” If you use a telecommunications device for the deaf (TDD), you may call the TDD number at 1-877-521-2172. The final document is also available through the Internet at the following site: http://www.ed.gov/offices/OCR/testing

If you prefer to send your request through the Internet, use the following address: ocr@ed.gov

You must include the term “Testing Guide” in the subject line of your electronic message.

Individuals with disabilities may obtain this document in an alternative format (e.g., Braille, large print, audio-tape, or computer diskette) by contacting the Office for Civil Rights' Customer Service Team at 1-800-421-3481.

SUPPLEMENTARY INFORMATION: On July 6, 2000, we published a notice of availability of and a request for comments on the draft document entitled “The Use of Tests When Making High-Stakes Decisions for Students: A Resource Guide for Educators and Policymakers” in the Federal Register (65 FR 41643). The purpose of the resource guide is to provide educators and policymakers with information about Federal non-discrimination standards and test measurement principles concerning the proper use of tests as part of decision-making that has high-stakes consequences for students.

Earlier versions of the draft resource guide have been reviewed by the National Academy of Science's Board on Testing and Assessment (BOTA), the U.S. Department of Justice's Civil Rights Division, and dozens of groups and individuals, including educators, parents, teachers, business leaders, policymakers, test publishers, civil rights groups, individual Members of Congress, and others. BOTA conducted a public hearing on the resource guide on January 26, 2000.

In response to our invitation in the previous Federal Register notice of availability, 40 parties submitted comments on the draft document. We have considered these comments in drafting the final guide.

Electronic Access to This Document

You may view this document, as well as all other Department of Education documents published in the Federal Register, in text or Adobe Portable Document Format (PDF) on the Internet at either of the following sites:

http://ocfo.ed.gov/fedreg.htm

http://www.ed.gov/news.html

To use the PDF, you must have Adobe Acrobat Reader, which is available free at either of the previous sites. If you have questions about using the PDF, call the U.S. Government Printing Office (GPO), toll free, at 1-888-293-6498; or in the Washington, DC area at (202) 512-1530.

Note: The official version of this notice is the document published in the Federal Register. Free Internet access to the official edition of the Federal Register and the Code of Federal Regulations is available on GPO Access at: http://www.access.gpo.gov/nara/index.html.

Dated: December 12, 2000.
Norma V. Cantú,
Assistant Secretary for Civil Rights.

[FR Doc. 00-31999 Filed 12-14-00; 8:45 am]

BILLING CODE 4000-01-U